NUCLEAR REGULATORY COMMISSION

Consolidated Guidance About Materials Licenses: Program-Specific Guidance About Change of Control and about Bankruptcy Involving Byproduct, Source, or Special Nuclear Material Licenses

AGENCY: U. S. Nuclear Regulatory Commission (NRC).

ACTION: Notice of Availability of final NUREG.

SUMMARY: The NRC is announcing the availability of the final NUREG-1556, Volume 15, “Consolidated Guidance about Materials Licenses: Guidance about Change of Control and about Bankruptcy Involving Byproduct, Source, or Special Nuclear Material Licenses,” dated November 2000.

The NRC is using Business Process Redesign techniques to redesign its materials licensing process, as described in NUREG-1539, “Methodology and Findings of the NRC's Materials Licensing Process Redesign.” A critical element of the new process is consolidating and updating numerous guidance documents into a NUREG-series of reports. This final NUREG report is the fifteenth guidance document developed to support an improved materials licensing process.

This guidance is intended for use by applicants, licensees, and NRC staff, and will also be available to Agreement States. This document combines and updates the guidance found in NRC Information Notice 89-25, Rev. 1: “Unauthorized Transfer of Ownership or Control of Licensed Activities”; NRC Information Notice 97-30: “Control of Licensed Material During Reorganizations, Employee-Management Disagreements, and Financial Crises”; and Policy and Guidance Directive 8-11, “NMSS Procedures for Reviewing Declarations of Bankruptcy.” The guidance in this report supersedes Policy and Guidance Directive 8-11. This final report takes a more risk-informed, performance-based approach to evaluating changes of control or bankruptcy of byproduct, source, and special nuclear material licensees, reducing the information (amount and level of detail) needed to properly inform NRC of a change of control or bankruptcy.

A free single copy of final NUREG-1556, Volume 15, may be requested by writing to the US Nuclear Regulatory Commission, ATTN: Mrs. Carrie Brown, Mail Stop TWFN 9-C24, Washington, DC 20555-0001. Alternatively, submit requests through the Internet by addressing electronic mail to cxb@nrc.gov. A copy of this final NUREG-1556, Volume 17, is also available for inspection and/or copying for a fee in the NRC Public Document Room, 2120 L Street, NW. (Lower Level), Washington, DC 20555-0001.

FOR FURTHER INFORMATION, CONTACT: Mrs. Carrie Brown, Mail Stop TWFN 9-F-31, Division of Industrial and Medical Nuclear Safety, Office of Nuclear Material Safety and Safeguards, U.S. Nuclear Regulatory Commission, Washington, DC 20555, telephone (301) 415-8092; electronic mail address: cxb@nrc.gov.

Electronic Access

Final NUREG-1556, Volume 15, is available electronically by visiting the NRC's Home Page (http://www.nrc.gov/nrc/nucmat.html).

Dated at Rockville, Maryland, this 9th day of January, 2001.
For the Nuclear Regulatory Commission.
Patricia K. Holahan,
Chief, Rulemaking and Guidance Branch, Division of Industrial and Medical Nuclear Safety, NMSS.

[FR Doc. 01-1986 Filed 1-22-01; 8:45am]

BILLING CODE 7590-01-P